DEPARTMENT OF HEALTH AND HUMAN SERVICES

Administration for Children and Families

Proposed Information Collection Activity; Comment Request

Proposed projects:

Title: Supporting Healthy Marriage (SHM) Project: Control Services Survey.

OMB No.: New Collection.

Description: The Administration for Children and Families (ACF), U.S. Department of Health and Human Services, is conducting a demonstration and evaluation called the Supporting Healthy Marriage (SHM) Project. Supporting Healthy Marriage is designed to inform program operators and policymakers of the most effective ways to help low-income married couples strengthen and maintain healthy marriages. In particular, the project will measure the effectiveness of marriage education programs by randomly assigning eligible volunteer couples to SHM program groups and control groups.

In order to conduct a strong test of the SHM program, the researchers must understand whether marriage education services similar to SHM are readily accessible to control group members elsewhere in the communities where SHM is offered. To measure the difference between services received by the program group and control group, the evaluator will administer a brief survey to participants in each SHM demonstration pilot site. The purpose of this survey is to identify the kinds of services that participants have received over the last six months, either from the SHM program or from other agencies in the community. This survey will allow the research team to determine whether there is a sufficient differential between the services received by the participants in the program group and those in the control group to constitute a strong test of the SHM intervention.

Respondents: Low-income married couples with children.

Annual Burden Estimates
Instrument | Number of respondents | Number of responses per respondent | Average burden hours per response | Total burden hours
SHM Control Services Survey | 808 | 1 | .17 | 137.4

Estimated Total Annual Burden Hours: 137.4.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 23, 2007.
Robert Sargis,
Reports Clearance Officer.

[FR Doc. 07-2090 Filed 4-27-07; 8:45 am]

BILLING CODE 4184-01-M